DEPARTMENT OF LABOR

Employment and Training Administration

[TA-W-64,972]

Risdon International, Laconia, NH; Notice of Termination of Investigation

Pursuant to Section 221 of the Trade Act of 1974, as amended, an investigation was initiated on January 22, 2009 in response to a petition filed by a company official on behalf of workers of Risdon International, Laconia, New Hampshire.

The petitioner has requested that the petition be withdrawn. Consequently, the investigation has been terminated.

Signed at Washington, DC, this 27th day of February 2009.
Linda G. Poole,
Certifying Officer, Division of Trade Adjustment Assistance.

[FR Doc. E9-5183 Filed 3-10-09; 8:45 am]

BILLING CODE 4510-FN-P